ENVIRONMENTAL PROTECTION AGENCY

[OPP-2005-0061; FRL-7733-2]

Azinphos-methyl; Order to Amend Registrations to Terminate Certain Uses

AGENCY: Environmental Protection Agency (EPA).

ACTION: Notice.

SUMMARY: This notice announces the order to amend registrations to terminate certain uses, voluntarily requested by the registrants and accepted by the Agency, of manufacturing-use products containing the pesticide azinphos-methyl, pursuant to section 6(f)(1) of the Federal Insecticide, Fungicide, and Rodenticide Act (FIFRA), as amended. This order follows a February 28, 2005 Federal Register Notice of Receipt of Requests (70 FR 9644) (FRL-7702-5) from the azinphos-methyl registrants Bayer CropScience, Gowan Company, and Makhteshim Chemical Works to amend manufacturing-use product labels to terminate caneberries, cotton, cranberries, peaches/nectarines, potatoes, and Southern pine seed orchard uses. These are not the last azinphos-methyl products registered for use in the United States.

In the February 28, 2005 notice, EPA indicated that it would issue an order implementing the amendments to terminate uses, unless the Agency received substantive comments within the 30-day comment period that would merit its further review of these requests. The Agency received several substantive comments on the notice. These comments have been reviewed and taken into consideration in the Agency's decision to proceed with this termination order, but modify the previously proposed existing stocks provision. EPA's decision is discussed in Unit III. of this notice. Accordingly, EPA hereby issues in this notice an order to amend the subject registrations to terminate uses. Any distribution, sale, or use of the azinphos-methyl manufacturing-use products subject to this order is permitted only in accordance with the terms of this order, including any existing stocks provisions in Unit VI.

A companion notice, announcing the receipt of requests to voluntarily terminate these same uses of azinphos-methyl end-use products, is being published elsewhere in today's Federal Register. The proposed existing stocks provision for the end-use products reflects and is compatible with the modified existing stocks provision for the manufacturing-use products.

DATES: The cancellations are effective August 17, 2005.

FOR FURTHER INFORMATION CONTACT: Diane Isbell, Special Review and Reregistration Division (7508C), Office of Pesticide Programs, Environmental Protection Agency, 1200 Pennsylvania Ave., NW., Washington, DC 20460-0001; telephone number: (703) 308-8154; fax number: (703) 308-8041; e-mail address: isbell.diane@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2005-0061. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This order amends registrations to terminate certain uses (caneberries, cotton, cranberries, peaches/nectarines, potatoes, and Southern pine seed orchards), as requested by the registrants, of azinphos-methyl manufacturing-use products registered under section 3 of FIFRA. These registrations are listed in sequence by registration number in Table 1. of this unit.

Table 1.—Azinphos-methyl Product Registration Amendments to Terminate Uses
Registration No. | Product Name | Company
264-722 | Guthion Technical Insecticide | Bayer CropScience
10163-95 | Azinphos-methyl Technical | Gowan Company
11678-53 | Cotnion-Methyl | Makhteshim Chemical Works

Table 2. of this unit includes the names and addresses of record for all registrants of the products in Table 1. of this unit, in sequence by EPA company number.

Table 2.—Registrants of Amended Azinphos-methyl Products
EPA Company No. | Company Name and Address
264 | Bayer CropScience 2 T.W. Alexander Drive Research Triangle Park, North Carolina 27709
10163 | Gowan Company P.O. Box 5569 Yuma, Arizona 85366-5569
11678 | Makhteshim Chemical Works 4515 Falls of Neuse Road, Suite 300 Raleigh, North Carolina 27609

III. Summary of Public Comments Received and Agency Response to Comments

EPA issued the Interim Reregistration Eligibility Decision (IRED) for azinphos-methyl in October 2001. In May of 2002, the technical registrants of azinphos-methyl signed a Memorandum of Agreement implementing the provisions of the IRED by dividing the universe of azinphos-methyl uses into three groups. Group 1 contained 23 crops with little use that were deleted from product labels immediately. Group 2 consists of the seven uses that are the subject of this order, and were originally scheduled to be phased out in December, 2005. Group 3 is comprised of 10 uses which have time-limited registrations pending the submission and evaluation of biomonitoring, product efficacy, and other data.

For the azinphos-methyl Group 2 crops, the Agency received comments and requests to extend these uses from the United States Department of Agriculture (USDA), the Ohio Farm Bureau, researchers, and commodity groups on the following azinphos-methyl uses: Caneberries, cotton, cranberries, peaches/nectarines, potatoes, and Southern pine seed orchards. A comment was received from the Natural Resources Defense Council opposing any extension of use on these crops. The requests and EPA's responses are summarized in this unit. The original comments and the supporting documents for this order can be found in the electronic docket for azinphos-methyl at http://www.epa.gov/edocket/.

For caneberries, the Oregon Raspberry and Blackberry Commission and the Ohio Farm Bureau have requested that EPA eliminate or extend the December 2005 phase-out of azinphos-methyl use on caneberries. The request is based on the need to control the raspberry crown borer in blackberries and raspberries. Currently, diazinon is the only alternative for controlling this pest. However, there is concern among blackberry growers in Oregon that resistance to diazinon by the raspberry crown borer may occur. They also emphasized that diazinon application is only allowed once per growing season due to restrictions stemming from the Diazinon IRED. They further stated that if azinphos-methyl is removed, growers who face both the raspberry crown borer and another sporadic pest of caneberries, the raspberry fruitworm, may need to dedicate the single application of diazinon for fruitworm control. They claim that in such a situation growers would have no alternative for the crown borer.

The Agency's review found that azinphos-methyl is currently rotated with diazinon to reduce the likelihood of resistance in the raspberry crown borer. EPA believes that resistance is unlikely since the applications are only made every other year, due to the life-cycle of this pest. Moreover, carbaryl and spinosad are both labeled for use against the fruitworm, and the presence of these alternatives should allow growers to use diazinon in place of azinphos-methyl for crown borer control. No new pest pressures have developed since EPA's evaluation of this use in 2001. Therefore, EPA finds insufficient justification for extending azinphos-methyl use on caneberries.

For cotton, the USDA/Animal and Plant Health Inspection Service (APHIS) submitted a late request that the azinphos-methyl use be expanded from the currently labeled use only in Missouri and Texas to allow use in Alabama, Florida, Georgia, Mississippi, North Carolina, South Carolina, Tennessee, and Virginia. The USDA/APHIS requested that ground applications of azinphos-methyl be made only in response to detections of isolated boll weevil reinfestations in cotton for use only in conjunction with the USDA Cooperative Boll Weevil Eradication Program.

This request is beyond the scope of the current action. Use of azinphos-methyl in additional states would, in effect, constitute a new and extended use that would need to be evaluated separately, through the registration process. Therefore, EPA is not extending the azinphos-methyl use on cotton.

The Cranberry Institute has requested an extension of the phase-out of azinphos-methyl use on cranberries in Wisconsin for 2-3 years. The request is based on the need for controlling the cranberry fruitworm. The Agency has completed an evaluation of the azinphos-methyl use on cranberries and concluded that the pest situation remains the same as was considered in EPA's 2001 analysis. There are several other active ingredients, including acephate, carbaryl, chlorpyrifos, diazinon, phosmet, methoxyfenozide, and tebufenozide, registered to control the cranberry fruitworm. Therefore, the Agency finds insufficient justification for extending azinphos-methyl use on cranberries.

EPA, however, acknowledges the current limitations on the use of methoxyfenozide in Wisconsin due to concerns for the endangered Karner Blue butterfly. The Agency is working with stakeholders to better understand the range and habitat of the butterfly in relation to cranberry bogs and develop reasonable, crop-specific measures to protect this species.

For peaches, the Northwest Horticultural Council and researchers from the University of Georgia and Rutgers University have requested that EPA eliminate the phase-out of azinphos-methyl use on peaches. The request is based on the need to control the peach twig borer in the northwest and lesser peach tree borer (LPTB) in the southeast, and the Oriental fruit moth and San Jose scale in the northeast. It is claimed that the LPTB has emerged as a pest since phosmet replaced methyl parathion in the treatment regimen. The other pests listed were evaluated in 2001, and are insects with longstanding pest status in the regions mentioned. Therefore, the Agency focused on the LPTB for assessing the need for continued use of azinphos-methyl on peaches.

The LPTB was once an insect that was only seen in older or diseased trees. This pest has begun attacking productive limbs of younger trees during the growing season as well as overwintering under tree bark. The increased infestation of the LPTB is a newly reemerging problem which makes it difficult for crop experts to accurately determine the extent of the southeastern peach acreage that is affected. It is also not clear whether azinphos-methyl is the only effective option to control these infestations. EPA acknowledges the potential for loss due to the LPTB, however has no evidence to confirm that azinphos-methyl is the best choice for controlling this pest. Therefore, the Agency finds insufficient justification for extending azinphos-methyl use on peaches/nectarines.

For potatoes, the National Potato Council has requested that EPA allow the continued use of azinphos-methyl on potatoes in the Pacific Northwest and expand the use to include Colorado and the Mid-Atlantic region. A request to retain the azinphos-methyl potato use has also been received from the Washington State Potato Commission. The request is based on the need to control the Colorado potato beetle (CPB) and a new pest in the northwest, the tuber moth. The CPB is an insect with longstanding pest status in the regions mentioned. EPA evaluated CPB in 2001 and found several effective alternative insecticides available. Therefore, the Agency focused on the tuber moth for assessing the need for continued use of azinphos-methyl on potatoes.

The pest spectrum has changed since 2001, with the introduction of the potato tuber moth into the Pacific Northwest. However, the Agency finds that effective controls other than azinphos-methyl, including methamidaphos, methomyl and esfenvalerate, are available. Further, usage data indicate that use of azinphos-methyl on potatoes in recent years has been minimal.

The USDA submitted a request to extend the use of azinphos-methyl on Southern pine seed orchards on behalf of the Seed Orchard Pest Management Subcommittee of the Southern Forest Tree Improvement Committee. The request is for use of azinphos-methyl against coneworms and seedbugs, a complex of moth and “true bug” species that attack flowers and seeds. The pest spectrum has not changed since azinphos-methyl was evaluated in 2001.

Synthetic pyrethroids are an alternative, although increase reliance on use may increase other pest populations or foster resistance development in the target pests. However, pyrethroids are effective control agents for the short term. In addition, there are other promising alternatives, including indoxacarb, thiamethoxam, and tebufenozide, that, if registered for these uses, would pose less risks to workers and the environment. Therefore, the Agency finds insufficient justification for extending azinphos-methyl use on Southern pine seed orchards.

For these reasons, the Agency does not believe that the comments submitted during the comment period merit any substantial extension of azinphos-methyl use or denial of the requests for voluntary use termination. However, section III.A.2. of the 2002 Memorandum of Agreement allows for extension of sale and distribution of existing stocks of manufacturer use products (MUPs) by an equal period of time if EPA issues the termination order after March 31, 2005. Thus, the Agency will be extending the existing stocks for four and a half months and will be including use in that extension as well as sale and distribution. The Agency intends to propose extending the use of existing stocks of end-use products through the end of the growing/application season, that being September 30, 2006.

IV. Use Termination Order

Pursuant to FIFRA section 6(f), EPA hereby approves the requested cancellations and amendments to terminate uses of azinphos-methyl registrations identified in Table 1. of Unit II. Accordingly, the Agency orders that the azinphos-methyl product registrations identified in Table 1. of Unit II. are hereby amended to terminate the affected uses. Any distribution, sale, or use of existing stocks of the products identified in Table 1. of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation or use termination action. The use termination order issued in this notice includes the following existing stocks provisions.

As of the effective date of this order, existing stocks of the products listed in Table 1. of Unit II., will be permitted to be sold, distributed, or used until January 31, 2006.

List of Subjects

Environmental protection, Pesticides and pests.

Dated: August 11, 2005.
Debra Edwards,
Director, Special Review and Reregistration Division, Office of Pesticide Programs.

[FR Doc. 05-16296 Filed 8-16-05; 8:45 am]

BILLING CODE 6560-50-S